DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: 2012 National Survey on Drug Use and Health—(OMB No. 0930-0110)—Revision

The National Survey on Drug Use and Health (NSDUH) is a survey of the civilian, non-institutionalized population of the United States 12 years old and older. The data are used to determine the prevalence of use of tobacco products, alcohol, illicit substances, and illicit use of prescription drugs. The results are used by SAMHSA, ONDCP, Federal government agencies, and other organizations and researchers to establish policy, direct program activities, and better allocate resources.

The 2012 and 2013 NSDUHs will continue conducting a follow-up clinical interview with a subsample of approximately 1,500 respondents. The design of this Mental Health Surveillance Study (MHSS) is based on the recommendations from a panel of expert consultants convened by the Center for Mental Health Services (CMHS), SAMHSA, to discuss mental health surveillance data collection strategies. The goal is to create a statistically sound measure that may be used to estimate the prevalence of Serious Mental Illness (SMI) among adults (age 18+).

For the 2012 and 2013 NSDUHs, no questionnaire changes are proposed.

As with all NSDUH/NHSDA surveys conducted since 1999, the sample size of the survey for 2012 and 2013 will be sufficient to permit prevalence estimates for each of the fifty states and the District of Columbia. The total annual burden estimate is shown below:

Estimated Annual Burden for 2012/2013 NSDUH
Instrument | Number of respondents | Responses per respondent | Hours per response | Total burden hours | Hourly wage rate | Annualized hourly costs
Household Screening | 191,100 | 1 | 0.083 | 15,861 | $14.71 | $233,315
Interview | 67,500 | 1 | 1.000 | 67,500 | 14.71 | 992,925
Clinical Follow-up Certification | 90 | 1 | 1.000 | 90 | 14.71 | 1,324
Clinical Follow-up Interview | 1,500 | 1 | 1.000 | 1,500 | 14.71 | 22,065
Screening Verification | 5,400 | 1 | 0.067 | 362 | 14.71 | 5,325
Interview Verification | 10,125 | 1 | 0.067 | 678 | 14.71 | 9,973
Total | 191,190 |  |  |  | 85,991 | 1,264,927

Written comments and recommendations concerning the proposed information collection should be sent by July 25, 2011 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-7285.

Dated: June 17, 2011.
Elaine Parry,
Director, Office of Management, Technology and Operations.

[FR Doc. 2011-15831 Filed 6-23-11; 8:45 am]

BILLING CODE 4162-20-P